DEPARTMENT OF COMMERCE

National Oceanic and Atmospheric Administration

RIN 0648-XD613

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and addresses of recipients.

ADDRESSES: The Letters of Confirmation and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Office of Protected Resources, Permits and Conservation Division; phone: (301) 427-8401.

SUPPLEMENTARY INFORMATION: The requested Letters of Confirmation have been issued under the authority of the Marine Mammal Protection Act of 1972, as amended (16 U.S.C. 1361 et seq.), and the regulations governing the taking and importing of marine mammals (50 CFR part 216). The General Authorization allows for bona fide scientific research that may result only in taking by level B harassment of marine mammals. The following Letters of Confirmation (LOC) were issued in Fiscal Year 2014.

File No. 13549: Issued to Moby A. Solangi, Ph.D., Institute for Marine Mammal Studies, P.O. Box 207, Gulfport, Mississippi 39502 on August 20, 2008, for transect surveys, aerial surveys, photo-identification, and behavioral observations of bottlenose dolphins (Tursiops truncatus) in estuaries of the Gulf of Mexico. The LOC was modified on October 31, 2013 to extend the duration of the LOC until December 20, 2013. This LOC was terminated on November 20, 2013, when a new LOC (File No. 18185) was issued to Dr. Solangi.

File No. 18185: Issued to Moby A. Solangi, Ph.D., Institute for Marine Mammal Studies, P.O. Box 207, Gulfport, Mississippi 39502 on November 20, 2013, for close approach via vessels during abundance surveys, photo-identification, behavioral observations, passive acoustics, and videography of bottlenose dolphins. The objectives of the research are to: (1) Ascertain population dynamics of bottlenose dolphins in the northern Gulf of Mexico, and (2) examine the dolphins' usage of different habitats, including lakes, bays, and sounds. Atlantic spotted dolphins (Stenella frontalis), pantropical spotted dolphins (S. attenuata), spinner dolphins (S. longirostris), and pygmy sperm whales (Kogia breviceps) may also be studied if sighted opportunistically. Occasional aerial surveys flown at 750 ft are also authorized. Research may occur in Mississippi Sound, Chandeleur Sound, Breton Sound (including the Louisiana Marsh area), Lake Borgne, Lake Pontchartrain, Mobile Bay, and adjacent waters of the north central Gulf of Mexico. The LOC expires on November 30, 2018.

File No. 18218: Issued to the Dolphin Research Center [Responsible Party: Armando Rodriguez], 58901 Overseas Hwy., Grassy Key, FL 33050 on November 25, 2013, for close vessel approach, photo-identification, behavioral observations, and focal follows of bottlenose dolphins in the Middle Keys, FL. Specifically, the study area ranges from the southeast side of Lignumvitae Key to the northeast side of Pigeon Key, out to 2.5 miles offshore on the Atlantic side, and 5 miles offshore on the Gulf side. The objectives of the research are to: (1) Study population demographics in the Middle Keys, (2) augment two on-going photo-identification studies in the Lower Keys and Upper Keys, (3) contribute to the Gulf of Mexico Dolphin Identification System (GoMDIS), and (4) provide baseline information on this population. The LOC expires on November 30, 2018. On July 7, 2014, the LOC was modified to slightly expand the study area on the Gulf side of the Keys to include Bamboo and Tripod Banks. The LOC expires on November 30, 2018.

File No. 14219: Issued to Tara Cox, Ph.D., Savannah State University, PO Box 20467, Savannah, GA 31404 on February 23, 2009, to conduct close approach, photo-identification, behavioral observations, passive acoustics, and focal follows of coastal and offshore bottlenose dolphins, Atlantic and pantropical spotted dolphins, short-finned pilot whales (Globicephela macrorhynchus), beaked whales (Mesoplodon spp.; Ziphius spp.), and Risso's dolphins (Grampus griseus) in estuarine and coastal waters of Georgia and South Carolina. The research investigates foraging ecology, social structure, and population structure, including begging behaviors and interactions between bottlenose dolphins and shrimp trawls. On January 30, 2014, the expiration date of the LOC was extended until March 1, 2015. This LOC was subsequently terminated on February 28, 2014, when a new LOC (File No. 18605) was issued to Dr. Cox.

File No. 13729: Issued to the Wild Dolphin Project, 612 N. Orange Ave. Ste. #A-12, Jupiter, Florida 33458, on February 13, 2009. The LOC authorizes close approach, photo-identification, and behavioral observations of 13 cetacean species within the Intracoastal Waterway (ICW) from southern Martin County, FL to the Florida Keys, and in the adjacent Atlantic Ocean from the coast to 20 miles into the Gulf Stream. The objectives of the research are to: (1) Study abundance, distribution, and residency of bottlenose dolphins in the ICW of Palm Beach County, FL, (2) determine species diversity, abundance, and distribution of cetaceans offshore of Palm Beach County, FL, (3) study Atlantic spotted dolphins inhabiting waters along the Florida Keys and compare data with the Bahamas population. On February 24, 2014, the LOC was modified to extend the expiration date until February 28, 2015.

File No. 18605: Issued to Tara Cox, Ph.D., Savannah State University, PO Box 20467, Savannah, GA 31404 on February 28, 2014, to conduct close approach, photo-identification, behavioral observations, passive acoustics, and focal follows of coastal and offshore bottlenose dolphins, Atlantic and pantropical spotted dolphins, short-finned pilot whales, beaked whales, and Risso's dolphins in estuarine and coastal waters of Georgia and South Carolina. The study is designed to continue research on dolphin-human interactions related to coastal fisheries, foraging ecology, and social structure of the local bottlenose dolphins. The LOC expires on March 1, 2019.

File No. 14590: Issued to the National Marine Mammal Laboratory [Principal Investigator: Peter Boveng, Ph.D.], 7600 Sand Point Way NE., Seattle, WA 98115, on July 24, 2009. The LOC authorizes aerial surveys of harbor seals (Phoca vitulina richardii), harbor porpoise (Phocoena phocoena), gray whales (Eschrichtius robustus), beluga whales (Delphinapterus leuca), and killer whales (Orcinus orca) along the entire coast of Alaska south of Cape Newenham, at the northern end of Bristol Bay. The results of the surveys form the basis of the NMFS Stock Assessment Reports and provide information on the haul-out behavior and habitat requirements of harbor seals in Alaska. On April 14, 2014, the expiration date of the LOC was extended until August 1, 2015.

File No. 18715: Issued to William McGlaun, Texas Sealife Center, 14220 South Padre Island Drive, TX 78418 on June 26, 2014, for close vessel approach, photo-identification, and behavioral observations of bottlenose dolphins to estimate population abundance in south and central Texas. Specifically, the study area includes the internal bays and estuaries along the Texas Coast form Keller Bay to South Bay. The LOC expires on July 1, 2019.

File No. 18859: Issued to the National Ocean Service Center for Coastal Environmental Health and Biomolecular Research [Responsible Party: Patricia A. Fair, Ph.D.], 219 Fort Johnson Rd., Charleston, SC 29412, on August 25, 2014, for close vessel approach, photo-identification, behavioral observations, and focal follows of bottlenose dolphins. The studies may occur in the Charleston Harbor area, primarily in portions of the main channels and creeks of the Ashley, Cooper, and Wando Rivers. The research will continue monitoring dolphins in the area with the objective of analyzing their site fidelity and local contaminant exposure. In addition, the study will quantify the effects of a 2016 harbor deepening project on the dolphins' distribution, abundance and behavior. The LOC expires on August 31, 2019.

In compliance with the National Environmental Policy Act of 1969 (42 U.S.C. 4321 et seq.), a final determination has been made that the activities are categorically excluded from the requirement to prepare an environmental assessment or environmental impact statement.

Dated: December 16, 2014.
Julia Harrison,
Chief, Permits and Conservation Division, Office of Protected Resources, National Marine Fisheries Service.

[FR Doc. 2014-30398 Filed 12-29-14; 8:45 am]

BILLING CODE 3510-22-P